DEPARTMENT OF HOUSING AND URBAN DEVELOPMENT

[Docket No. FR-4565-N-06]

Notice of Proposed Information Collection: Comment Request; Single Family Acquired Asset Management System (SAMS)

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: April 24, 2000.

ADDRESSES: Interested persons are invited to submit comments regarding this proposal. Comments should refer to the proposal by name and/or OMB Control Number and should be sent to: Wayne Eddins, Reports Management Officer, Department of Housing and Urban Development, 451 7th Street, SW, L’Enfant Plaza Building, Room 8202, Washington, DC 20410.

FOR FURTHER INFORMATION CONTACT: Joseph McCloskey, Director, Single Family Asset Management, Department of Housing and Urban Development, 451 7th Street, SW, Washington, DC 20410, telephone (202) 70-1672 (this is not a toll free number) for copies of the proposal forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Single Family Acquired Asset Management System (SAMS).

OMB Control Number, if applicable: 2502-0486.

Description of the need for the information and proposed use: These information collections are an integral part to HUD's ability to create and maintain sound financial management practices and to maintain effective internal controls over the property disposition program. Without these forms, the program's accounting and financial data integrity would be severely compromised.

Agency Form Numbers, if applicable: SAMs-1100, 1101, 1103, 1106, 1106-C, 1108, 1110, 1111, 1111-A and SAMS-1117.

Estimation of the total number of hours needed to prepare the information collection including number of respondents, frequency of response, and hours of response: An estimation of the total number of annual hours needed to prepare the information collection is 65,950; the number of respondents is 272,950; the frequency response is on occasion, and the estimated time per response is 12 minutes to 30 minutes.

Status of the proposed information collection: Reinstatement with change of a previously approved information collection.

Authority: Section 3506 of the Paperwork Reduction Act of 1995, 44 U.S.C. Chapter 35, as amended.

Dated: February 10, 2000.
William C. Apgar,
Assistant Secretary for Housing-Federal Housing Commission.

[FR Doc. 00-4316 Filed 2-23-00; 8:45 am]

BILLING CODE 4210-27-M